DEPARTMENT OF ENERGY

Federal Energy Regulatory Commission

[Docket No. AD02-1-000]

Federal Energy Regulatory Records Information System; Notice of Intent To Modify the Commission Issuance Posting System, Records Information Management System and Docket Sheet System

March 5, 2002.

The Federal Energy Regulatory Commission (the Commission), hereby gives notice that it intends to modify its Commission Issuance Posting System (CIPS), Records Information Management System (RIMS) and its Docket Sheet System on the web. The Commission intends to combine these three online systems into a single online system called the Federal Energy Regulatory Records Information System (FERRIS).

In response to many suggestions regarding the Commission's online systems, the Commission plans to replace its existing systems with newer, more robust technology. Ultimately, the new system will provide users with a single point of access with better search capability and additional functions. The Commission intends the new system to result in increased performance and reliability for the Commission's staff and public users.

This notice announces the coming availability of the new system. The Commission will make FERRIS available for testing and comment before placing the system into full production. We encourage the public and the Commission's staff to try the new system and comment on it through the Content Master e-mail link, contentmaster@ferc.gov.

The Commission is making every effort to incorporate all functions currently in the existing systems into FERRIS. Appendix A provides a cross reference between the existing functions in CIPS, RIMS and the Docket Sheets and the corresponding function in FERRIS. Appendix B discusses the few features that will not be programmed into FERRIS. The Commission will make some modification to the file formats in which the documents will be available. Details appear in Appendix B.

A test version of FERRIS will be made available to the public through the Commission's Web site at www.ferc.gov in Mid March. The full production version of FERRIS will be available in early April. Please refer to the Commission's website for the announcement of the exact dates the system will be available. To familiarize the public with the features of the new system, demonstrations will be conducted in Room 3M-2A&B at the Commission's headquarters on March 12, 2002, at 2:00 pm and on March 18, 2002, at 2:00 pm. While it is not mandatory, it is preferable to pre-register for the demonstrations. Pre-registration will facilitate passing through security. To pre-register, send an e-mail with your name, company affiliation and the date of the demonstration you will attend to contentmaster@ferc.gov or fax to (202) 208-2320 or call the Public Reference Room at (202) 208-1371, then press 0.

Magalie R. Salas,
Secretary.

Appendix A

Crosswalk of Functionality
Function in CIPS | Function in new system
Three separate search screens | One general search screen and one advanced search screen.
Docket Number Search | Same.
Date Range | Issued Date will be referred to as Document date. Other than that, no change.
Radio buttons for 1 day, 1 week, 30 days, 120 days, year search | Replaced with text boxes for user supplied number of days, months or years. The default is 1 day, 1 month or 1 year.
Text Search | Text Search is now powered by a much more robust search engine.
Libraries of Hydro, Oil, Gas, Electric, Rulemaking and Miscellaneous | No change except the miscellaneous library is called general.
Sort Returns by rank or date, specify maximum rows returned and rows per page returned | From the search page you may specify the number of documents per page. From the results page, you may sort or resort your results by rank or date. You may choose to display the summary or hide the summary. You may choose to display 10 hits or 200 hits.
Company Name (This feature in CIPS searches the description from left to right depending on the number of words typed in the search field, e.g., a search term of Tennessee will find Tennessee Gas Pipeline but will not find East Tennessee Natural Gas.) | From the General Search, de-select the option “full text” so only the description is selected. Type the name or portion of the name of the company you wish to find in the text search field. The entire description will be searched for the search term or terms. From the Advanced Search, type in the name of the company in the author/recipient affiliation field.
Type/Prefix | Type the prefix in the docket number search field. A guide with the docket prefixes will be provided.
Download Selected Items in a compressed file | The download option is available in the Action drop down list.

Function in RIMSWeb | Function in new system
Docket Search | Docket Search on the General Search page permits full or partial docket number search; multiple subdockets may be entered.
Accession Number Search | Unchanged on the Advanced Search page.
Author/Recipient | Unchanged on the Advanced Search page.
Class/Type | On the General Search page, permits up to four class and four type selections.
FERC Cite #; Fed Court Cite, Opinion | Unchanged on the Advanced Search page.
Related Doc ID | Unchanged on the Advanced Search page.
Order | Unchanged on the Advanced Search page.
Tariff/Rate | Eliminated; See discussion above.
Daily Filings | On the general search page select submittal or issuance, and select the radio button for the previous day, then select the library.
Libraries of Gas/Oil, Hydro, Electric, General | Libraries of Natural Gas, Oil, Hydro, Electric, Rulemaking, General.
Document Information Page | Retained.
Available File Formats Page | Retained.

Appendix B

Features Not in FERRIS and File Format Changes in FERRIS

As the Commission begins to phase in the full system, we will be eliminating the ASCII text version of issuances. Instead, we will provide the files in the file format of the software in which they are created and portable document format (PDF) ¹. Our decision is based on primarily two reasons. First, as the Commission's issuances have become more complex, including tables of contents, embedded spreadsheets, tables, photographs, etc., the conversion to ASCII has become inaccurate. The PDF version of the files, while still searchable, will preserve formatting, fonts, etc.

¹ PDF is a text format created by Adobe Systems Incorporated and designed to be portable across computer platforms.

The second reason for our determination relates to the Commission's practice of scanning issuances and creating an image (in Tagged Image Format (TIF)). Since the inception of its electronic filing program in the fall of 2001, the Commission has converted all files submitted electronically into PDF. This practice worked well. In consequence, the Commission no longer believes it is necessary to convert the files containing issuances into TIF files. Similarly, the Commission has historically scanned a paper version of the Form 1 into RIMS in tagged image format, TIF. The Commission currently receives the Form 1 in electronic format. To make it easier to access the Form 1 from FERRIS, Form 1 data will be converted to a PDF file.

Currently, each day the Commission compresses the files posted that day to CIPS for easy downloading. One compressed file contains all files posted during the day. Other compressed files contain all files posted to each library that day. On some occasions, the Commission posted issuances to CIPS the morning following the date of issuance due to the late hour of issuance. The compressed files had already been created for the day necessitating posting some files the following morning. Henceforth, the Commission will focus its time and energies to adding issuances to FERRIS the day of issuance to the greatest extent possible. To further this goal, the Commission will no longer create the compressed files. FERRIS will allow users to download the day's issuances in a self-extracting compressed file that the user creates himself. See Appendix C for details on compressing and downloading files in FERRIS.

On CIPS today, users can save certain search parameters for reuse during a later session. CIPS uses a permanent “cookie” file to provide this feature. “Cookies” are text files placed on the customer's computer hard drive by the website computer. When the customer is on our website, the agency can access the “cookie” file. There are two kinds of “cookies.” A session “cookie” is one that continues in operation only for the duration of the browser session—when the user shuts down the browser, the “cookie” is released and goes away. A persistent “cookie,” however, continues in operation after the close of the individual session. Shutting down the browser will cause the “cookie” to be written into a special “cookie” file on the user's computer, so that the next time the user visits the website that generated the “cookie,” the “cookie” will be sent to the website's server again.

On June 22, 2000, the Office of Management and Budget (OMB) issued a memorandum regarding privacy policies and data collection by agencies on the internet, clarifying the policy on use of “cookies” by government agencies.² OMB's June 22 Memorandum states that:

² OMB Memorandum 00-13, “Privacy Policies and Data Collection on Federal Web Sites” (June 22 Memorandum). The complete text of the June 22 Memorandum can be found at http://www.whitehouse.gov/omb/memoranda/m00-13.html.

[t]he presumption should be that “cookies” will not be used at Federal websites. Under this new Federal policy, “cookies” should not be used at Federal websites, or by contractors when operating websites on behalf of agencies, unless, in addition to clear and conspicuous notice, the following conditions are met: a compelling need to gather the data on the site; appropriate and publicly disclosed privacy safeguards for handling of information derived from “cookies”; and personal approval by the head of the agency.

Subsequently, OMB interpreted its memorandum to apply only to persistent “cookies,” and not to session “cookies.” ³ While the Commission will continue to use session “cookies,” to bring the Commission's systems into full compliance with OMB's memorandum, the systems will not use persistent “cookies.” As a consequence, the ability of the user to retain search parameters in CIPS will not be replicated in FERRIS.

³ Letter from John T. Spotila, Administrator, Office of Information and Regulatory Affairs, OMB, to Roger Baker, Chief Information Officer, U.S. Department of Commerce (September 5, 2000).

Currently, RIMS contains a search entitled Tariff/Rate which is intended to provide a search of electric tariffs and rate schedules. The Commission never fully implemented this feature in RIMS. Further, on April 20, 2001, the Commission issued a Notice of Inquiry in Docket No. RM01-5-000 ⁴ inviting comments on selected issues related to the filing of electronic tariffs in order to develop a notice of proposed rulemaking, and thereafter a final rule, with respect to the filing of electronic tariffs. In light of the Commission's intention to pursue the filing of electronic tariffs and the fact that the electric tariff portion of RIMS was not fully formed, FERRIS will not contain the Tariff/Rate feature.

⁴ Electronic Tariff Filings, 66 FR 15673 (March 20, 2001), 94 FERC ¶ 61,270 (March 14, 2001), III FERc Stats. & Regs. Notices ¶ 35,538 (March 14, 2001).

Appendix C

Downloading Files to a Self-Extracting Compressed File

To download all files posted on a specific day, select the previous day by clicking on the appropriate radio button or type in a specific date. Select only issuances if you wish to limit your results to issuances. Be sure to select 200 Results per Page. You may limit your results to a specific library or libraries by clicking on the appropriate box or boxes. From the results page select “select all” from the Search Options drop down menu. From the Action drop down menu select download, then press Go. Using this technique, all files from any results list may be downloaded in a self-extracting compressed file including the day's postings in any one of the libraries. In addition, the system includes a feature called the Request List. Select items from your results list, use the Action drop down menu to add the selected files to your Request List. You may do as many searches as you wish, adding to your Request List as you go. When you are finished, you may download the files in your Request List in a single self-extracting compressed file.

[FR Doc. 02-5717 Filed 3-8-02; 8:45 am]

BILLING CODE 6717-01-P